DEPARTMENT OF COMMERCE

National Oceanic and Atmospheric Administration

[I.D. 051606B]

Endangered Species; File No. 1556

AGENCY: National Marine Fisheries Service (NMFS), National Oceanic and Atmospheric Administration (NOAA), Commerce.

ACTION: Issuance of permit.

SUMMARY: Notice is hereby given that the Commonwealth of the Northern Mariana Islands, USA (CNMI), Division of Fish and Wildlife, [Sylvan Igisomar, responsible official] P.O. Box 10007, Saipan, Mariana Islands, 96950 has been issued a permit to take green (Chelonia mydas) and hawksbill (Eretmochelys imbricata) sea turtles for purposes of scientific research.

ADDRESSES: The permit and related documents are available for review upon written request or by appointment in the following office(s):

Permits, Conservation and Education Division, Office of Protected Resources, NMFS, 1315 East-West Highway, Room 13705, Silver Spring, MD 20910; phone (301)713-2289; fax (301)427-2521; and

Pacific Islands Region, NMFS, 1601 Kapiolani Blvd., Rm 1110, Honolulu, HI 96814-4700; phone (808)973-2935; fax (808)973-2941.

FOR FURTHER INFORMATION CONTACT: Kate Swails or Patrick Opay (301)713-2289.

SUPPLEMENTARY INFORMATION: On February 24, 2006 notice was published in the Federal Register(71 FR 9524) that a request for a scientific research permit to take green and hawksbill sea turtles had been submitted by the above-named organization. The requested permit has been issued under the authority of the Endangered Species Act of 1973, as amended (ESA; 16 U.S.C. 1531 et seq.) and the regulations governing the taking, importing, and exporting of endangered and threatened species (50 CFR parts 222-226).

The CNMI Division of Fish and Wildlife will perform sea turtle surveys in the waters of the Northern Mariana Islands, USA. The project will consist of shoreline/cliff line assessments, in-water tow dive assessments, and the hand capture of sea turtles. Turtles will be handled, measured, photographed, tissue-sampled, flipper tagged, passive integrated transponder tagged, and released. A subset of the turtles will be satellite tagged. The applicant will capture up to 100 green and 40 hawksbill sea turtles annually. The permit is issued for five years.

Issuance of this permit, as required by the ESA, was based on a finding that such permit (1) Was applied for in good faith, (2) will not operate to the disadvantage of such endangered or threatened species, and (3) is consistent with the purposes and policies set forth in section 2 of the ESA.

Dated: May 24, 2006.
P. Michael Payne,
Chief, Permits, Conservation and Education Division, Office of Protected Resources, National Marine Fisheries Service.

[FR Doc. E6-8404 Filed 5-31-06; 8:45 am]

BILLING CODE 3510-22-S